DEPARTMENT OF HOMELAND SECURITY

Coast Guard

33 CFR Part 165

[Docket No. USCG-2015-0121]

Safety Zones; Fireworks Events in Captain of the Port New York Zone

AGENCY: Coast Guard, DHS.

ACTION: Notice of enforcement of regulation.

SUMMARY: The Coast Guard will enforce various safety zones within the Captain of the Port New York Zone on the specified dates and times. This action is necessary to ensure the safety of vessels and spectators from hazards associated with fireworks displays. During the enforcement period, no person or vessel may enter the safety zones without permission of the Captain of the Port (COTP).

DATES: The regulation for the safety zones described in 33 CFR 165.160 will be enforced on the dates and times listed in the table below.

FOR FURTHER INFORMATION CONTACT: If you have questions on this document, call or email Lieutenant Douglas Neumann, Coast Guard; telephone 718-354-4154, email douglas.w.neumann@uscg.mil.

SUPPLEMENTARY INFORMATION:

The Coast Guard will enforce the safety zones listed in 33 CFR 165.160 on the specified dates and times as indicated in Table 1 below. This regulation was published in the Federal Register on November 9, 2011 (76 FR 69614).

Table 1
1. Empire Force Event Fireworks, Liberty Island Safety Zone, 33 CFR 165.160(2.1) | • Launch site: A barge located in approximate position 40°41′16.5″ N. 074°02′23″ W. (NAD 1983), located in Federal Anchorage 20-C, about 360 yards east of Liberty Island. This Safety Zone is a 360-yard radius from the barge. • Date: April 9, 2015. • Time: 9:15 p.m.-10:30 p.m.
2. Swank Productions, Ellis Island Safety Zone, 33 CFR 165.160(2.2) | • Launch site: A barge located between Federal Anchorages 20-A and 20-B, in approximate position 40°41′45″ N. 074°02′09″ W. (NAD 1983) about 365 yards east of Ellis Island. This Safety Zone is a 360-yard radius from the barge. • Date: May 24, 2015. • Time: 11:05 p.m.-12:00 a.m.
3. Hempstead Summer Kick Off, Bar Beach Hempstead Harbor Safety Zone, 33 CFR 165.160(3.9) | • Launch site: A barge located in approximate position 40°49′50″ N. 073°39′12″ W. (NAD 1983), approximately 190 yards north of Bar Beach, Hempstead Harbor, New York. This Safety Zone is a 180-yard radius from the barge. • Date: May 23, 2015. • Time: 09:00 p.m.-10:15 p.m.
4. City of Glen Cove Fireworks, Glen Cove, Hempstead Harbor Safety Zone, 33 CFR 165.160(3.8) | • Launch site: A barge located in approximate position 40°51′58″ N. 073°39′34″ W. (NAD 1983), approximately 500 yards northeast of Glen Cove Breakwater Light 5 (LLNR 27065). This Safety Zone is a 360-yard radius from the barge. • Date: July 4, 2015. • Rain Date: July 5, 2015 • Time: 8:45 p.m.-10:10 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This document is issued under authority of 33 CFR 165.160(a) and 5 U.S.C. 552(a). In addition to this document in the Federal Register, the Coast Guard will provide mariners with advanced notification of enforcement periods via the Local Notice to Mariners and marine information broadcasts. If the COTP determines that a safety zone need not be enforced for the full duration stated in this document, a Broadcast Notice to Mariners may be used to grant general permission to enter the safety zone.

Dated: March 26, 2015.
Jeffrey Dixon,
Captain, U.S. Coast Guard, Captain of the Port New York.

[FR Doc. 2015-09040 Filed 4-20-15; 8:45 am]

BILLING CODE 9110-04-P